DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: 2020 Census

The initial Federal Register Notice (“2020 Census,” June 8, 2018, Vol. 83, Number 111, pp. 26643-26653, FR Doc No.: 2018-12365) described the 2020 Census in full. Approval for the 2020 Census is being sought from OMB in phases. The first phase of approval was for the 2020 Census Address Canvassing operation only, which was described in Federal Register Notice “2020 Census,” October 2, 2018 (Vol. 83, No. 191, pp. 49535-49539, FR Doc No.: 2018-21386). Address Canvassing creates the address list for the census and precedes census enumeration data collection. The remaining operations scoped for the 2020 Census data collection will be described below in this Federal Register Notice for an additional 30-day comment period; the full census description will be considered as a substantive change to the approved OMB materials. This notice was previously posted on December 28, 2018, (Volume 83, No. 248, pp 67213-67222, FR Doc No.: 2018-28164) for a 30-day comment period, but public comments could not be received during the partial government shutdown. In addition, this document has been updated to reflect pending litigation regarding the reinstatement of the citizenship question as well as some minor edits.

OMB Control Number: 0607-1006.

Form Number(s): D-CN(E/S) (included with Address Canvassing approval), D-Q, D-Q(E/S), D-Q-GE, D-Q-GE(S), D-Q-UL, D-Q-UL(E/S), D-Q-TL, D-Q-TL(S), D-Q-UE, D-Q-RA, D-Q-TLRA, D-Q-GERA, D-Q-MV, D-CQ-TL, D-CQ-TL(S), D-CQ-UE, D-CQ-RA, D-CQ-TLRA, D-Q-AS, D-Q-MI, D-Q-GU, D-Q-VI, D-Q-VI(S), D-CQ-AS, D-CQ-MI, D-CQ-GU, D-CQ-VI, D-CQ-VI(S), D-Q-GE-AS, D-Q-GE-MI, D-Q-GE-GU, D-Q-GE-VI, D-Q-GE-VI(S), D-Q-ULPR(E/S), D-Q-GEPR, D-Q-GEPR(S), D-Q-PR(E/S), D-Q-TLPR, D-Q-TLPR(S), D-CQ-TLPR, D-CQ-TLPR(S).

Type of Request: Revision of a currently approved collection.

Number of Respondents: 180,962,929 for all operations in the 2020 Census.

Average Hours per Response: 10 minutes for census enumeration.

Burden Hours: 26,531,594 for 2020 Census.

2020 Census
Operation or category | Estimated number of respondents | Estimated time per response (minutes) | Total burden hours
Address Canvassing | 15,786,734 | 5 | 1,315,561
Address Canvassing Listing QC | 1,578,673 | 5 | 131,556
Address Canvassing Subtotal | 17,365,407 |  | 1,447,117
Geographic Areas Focused on Self-Response (this includes Mailout and Update Leave)
Internet/Telephone/Paper | 80,700,000 | 10 | 13,450,000
Update Leave | 11,900,000 | 5 | 991,667
Update Leave QC | 1,190,000 | 5 | 99,167
Nonresponse Followup | 52,700,000 | 10 | 8,783,333
Nonresponse Followup Reinterview | 2,760,000 | 5 | 230,000
Self-Response Quality Assurance | 250,000 | 10 | 41,667
Field Verification | 400,000 | 2 | 13,333
Field Verification QC | 40,000 | 2 | 1,333
Coverage Improvement | 3,200,000 | 7 | 373,333
Non-ID Processing Phone Followup | 750,000 | 5 | 62,500
Self-Response Areas Subtotal | 153,890,000 |  | 24,046,333
Geographic Area Focused on Update Enumerate
Update Enumerate Production | 506,000 | 12 | 101,200
Update Enumerate Listing QC | 50,600 | 5 | 4,217
Update Enumerate Reinterview | 25,300 | 10 | 4,217
Update Enumerate Subtotal | 581,900 |  | 109,634
Group Quarters
GQ Update Program | 7,168 | 10 | 1,195
GQ Advance Contact (facility) | 297,000 | 10 | 49,500
GQ Enumeration—eResponse (facility) | 14,300 | 20 | 4,767
GQ Enumeration—person contact | 8,000,000 | 5 | 666,667
Group Quarters QC | 8,500 | 5 | 708
Group Quarters Subtotal | 8,326,968 |  | 722,837
Enumeration at Transitory Locations—Advance Contact | 50,000 | 10 | 8,333
Enumeration at Transitory Locations—Units | 600,000 | 10 | 100,000
Federally Affiliated Count Overseas | 82 | 5 | 7
Island Areas Censuses—Housing Units | 138,281 | 40 | 92,187
Island Areas Censuses—Group Quarters | 10,291 | 30 | 5,146
Totals | 180,962,929 |  | 26,531,594

Overview of 2020 Census Operations

Below is a summary of the needs and uses of the 2020 Census, followed by a more detailed overview of data collection operations. The geographic areas discussed in this notice refer only to the 50 states, the District of Columbia, and Puerto Rico, unless otherwise noted. The 2020 Census also includes the Island Areas (U.S. Virgin Islands, Guam, American Samoa, and the Commonwealth of the Northern Mariana Islands).

Needs and Uses: Article 1, Section 2 of the United States Constitution mandates that the U.S. House of Representatives be reapportioned every ten years by conducting a national census of all residents. In addition to the reapportionment of the U.S. Congress, census data are used to draw legislative district boundaries within states. Census data are also used by numerous agencies to determine funding allocations for the distribution of an estimated $675 billion of federal funds each year.

The Census Bureau plans to conduct the most automated, modern, and dynamic decennial census in history. The 2020 Census includes design changes in four key areas, discussed below:

(1) New methodologies to conduct the Address Canvassing operation.

(2) Innovative ways of optimizing self-response.

(3) The use of administrative records and third-party data to reduce the Nonresponse Followup (NRFU) operation workload.

(4) The use of technology to reduce the manual effort and improve the productivity of field operations, while decreasing the amount of physical space required to perform the field operations.

(1) Reengineering Address Canvassing

An accurate address list is the cornerstone of a successful census. In order to manage the work for the decennial census, the Census Bureau uses the address and physical location of each place where someone is, or could be, living. The Census Bureau maintains this address list and spatial data for the United States and Puerto Rico in its Master Address File (MAF)/Topologically Integrated Geographic Encoding and Referencing (TIGER) System database.

This database was created using the address files from the 1990 Census and has been subsequently and regularly updated using:

• Information collected from decennial census operation updates, including address and spatial updates.

• The Delivery Sequence File of addresses from the United States Postal Service (USPS).

• Input from tribal, state, and local governments and third parties, including address and boundary updates from various programs conducted over the decade, such as the Local Update of Census Addresses operation.

• Information collected in other Census Bureau programs, such as the American Community Survey.

The purpose of Address Canvassing is (1) to deliver a complete and accurate address list and spatial database for enumeration and tabulation, and (2) to determine the type and address characteristics for each living quarter. Prior to a field Address Canvassing data collection, the Census Bureau will delineate the entire land area of the United States, Puerto Rico, and Island Areas into Type of Enumeration Areas (TEAs). Most stateside United States living quarters will be delineated into the self-response area, where the census address list will be created before the census, census materials will be provided in the mail, and self-response modes will be supported and promoted. Other areas will be designated for Update Leave, Update Enumerate (including Remote Alaska), Military Enumeration, or Island Areas Enumeration.

For the 2020 Census, there will be a full Address Canvassing of the country that will consist of In-Office Address Canvassing complemented with In-Field Address Canvassing. In-Office Address Canvassing is the process of using empirical geographic evidence (e.g., imagery, comparison of the Census Bureau's address list to address lists provided by the United States Postal Service and governmental units that partner with the Census Bureau) to assess the current address list and make changes where necessary. This component also detects and captures areas of change from high-quality administrative records and third-party data. Advancements in technology have enabled continual address and spatial updates to occur throughout the decade as part of the In-Office Address Canvassing effort. Since 2015, satellite imagery has been used for the identification of areas where there are changes in living quarters. Where the necessary updates can be captured from electronic sources and are deemed to be sufficiently accurate, In-Office Address Canvassing will complete the update process prior to the census. The remaining blocks will become eligible to be sent to In-Field Address Canvassing for updating on the ground by field staff.

(2) Optimizing Self-Response

The goal of this innovation area is to make it as easy and efficient as possible for people to respond to the 2020 Census by offering new response options through the internet and telephone, in addition to the traditional mailback paper questionnaire option. Self-response reduces the need to conduct in-person follow-up operations to complete the enumeration, by far the most expensive method of data collection. To that end, the Census Bureau will motivate people to respond, as well as make it easy for people to respond, from any location at any time, even if they don't have the Census Bureau's preassigned ID for the address.

The importance of responding to the 2020 Census will be communicated in a variety of ways, including through mailings, questionnaire delivery, advertising, and partnership efforts. In particular, the Integrated Partnership and Communications operation is responsible for communicating the importance of responding to the 2020 Census.

Internet response represents a substantial innovation for the Census Bureau. The internet was not a response option in the 2010 Census. The internet response option has been included in multiple tests leading up to the 2020 Census: the 2014 Census Test; all three census tests performed in 2015; the 2016 Census Test; the 2017 Census Test; and the 2018 End-to-End Census Test. It has also been used in the American Community Survey since 2013.

(3) Utilizing Administrative Records and Third-Party Data

For the 2020 Census, “administrative records” and “third-party data” are terms used to describe microdata records contained in files collected and maintained by federal, state, and local government agencies (“administrative records”) and commercial entities (“third-party data”) for administering programs and providing services. For many decades, the Census Bureau has successfully and securely used administrative records and third-party data for statistical purposes. For the 2020 Census, the Census Bureau intends to use administrative records from both internal sources, such as data from prior decennial censuses and the American Community Survey, and from a range of other federal agencies, including the Internal Revenue Service (IRS), the Social Security Administration, the Centers for Medicare and Medicaid Services, the Department of Housing and Urban Development, the Indian Health Service, the Selective Service, and the U.S. Postal Service. The Census Bureau is also working to acquire state government administrative records from enrollment in federal block grant programs, such as the U.S. Department of Agriculture's Supplemental Nutrition Assistance Program and the Special Supplemental Nutrition Program for Women, Infants, and Children.

Throughout the decade, the Census Bureau continuously conducted analyses and assessments to verify that the proposed uses of administrative records and third-party data sources in the 2020 Census were appropriate in each instance. Based on this research, testing, and analyses, the Census Bureau announced its plans in November 2015 to utilize administrative records and third-party data in the 2020 Census. The 2020 Census Operational Plan calls for employing this information for the following purposes:

I. Consistent with previous decennial censuses, the Census Bureau will utilize administrative records from federal and state government agencies and third-party data to refine contact strategies and build and update the residential address list.

II. Also consistent with previous decennial censuses, the Census Bureau will utilize federal and state administrative records to edit or impute invalid, inconsistent, or missing responses.

III. The new use of administrative records for the 2020 Census is to use data exclusively from federal administrative records to improve the accuracy and efficiency of the NRFU operation by:

a. Reducing follow-up on vacant housing units and nonresidential addresses, as designated by administrative records.

b. Enumerating households that do not self-respond and whom we were unable to contact after six mailings and one in-person field visit.

For each of the purposes listed in items II, IIIa, and IIIb, the Census Bureau will use or plans to use administrative data only when it can confirm empirically across multiple sources that the data are consistent, of high quality, and can be accurately applied to the addresses and households in question. The Census Bureau plans to enumerate households utilizing administrative records only from federal government agencies, such as the IRS. Use of administrative records for nonresponding addresses will be evaluated under a strict set of Census Bureau rules throughout the process to ensure completeness and accuracy.

Based on the research and tests conducted, the Census Bureau estimates that under the current operational plan, federal administrative records will be used to enumerate up to 6.2 million households of the projected total of approximately 62 million addresses that are expected to be in the NRFU workload for the 2020 Census. These 6.2 million households represent less than five percent of the approximately 147 million addresses in the Census master address file. Where the Census Bureau does not have confidence in the data, such as when the data are inconsistent or missing in the federal administrative records, the household will remain in the NRFU workload to be enumerated in person.

(4) Reengineering Field Operations

The final innovation area, “Reengineering Field Operations,” has a goal of using technology to manage the 2020 Census fieldwork efficiently and effectively, and as a result, reduce the staffing, infrastructure, and brick and mortar footprint for the 2020 Census. The Census Bureau plans to provide most listers and enumerators with the capability to work completely remotely and perform all administrative and data collection tasks directly from a mobile device.

Supporting Documents About the 2020 Census Design and the 2020 Census Objectives

Multiple Census Bureau publications provide background on the plans for the 2020 Census. The 2020 Census Operational Plan describes each of the 35 operations scoped and defined for the census. Every task performed for the 2020 Census must be assigned to one of the 35 operations. The operational plan also summarizes the major findings of the census tests performed this decade. Moreover, this document shows the planned design of the 2020 Census as of December 2018 and identifies design decisions made, as well as remaining decisions to be made using census test results. Key design components for the 2020 Census for every operation are discussed in Chapter 5 of the 2020 Census Operational Plan. In addition, for most of the 2020 Census operations, the Census Bureau is developing a detailed operational plan to document objectives and procedures of the operation, major tasks involved in implementation, the overall workflow, and the overall resources required. The 2020 Census operational plan and detailed operational plans are available at https://www.census.gov/programs-surveys/decennial-census/2020-census/planning-management/memo-series.html can be referenced for more details about the tasks performed for each operation.

Type of Enumeration Areas

Prior to the census, it is necessary to delineate all geographic areas into Type of Enumeration Areas (TEAs). These TEAs describe what methodology will be used for census material delivery and household enumeration in order to use the most cost-effective enumeration approach for achieving maximum accuracy and completeness. TEAs also describe what methodology will be used for updating the address frame. For the United States and Puerto Rico, TEAs are delineated at the block level based on the address and spatial data in the MAF/TIGER database.

The MAF/TIGER does not contain data for the Island Areas, so a separate TEA is designated for these areas. The TEAs designated for the 2020 Census are:

* TEA 1 = Self-Response.

* TEA 2 = Update Enumerate.

* TEA 3 = Island Areas.

* TEA 4 = Remote Alaska.

* TEA 5 = Military.

* TEA 6 = Update Leave.

The most common enumeration method by percentage of households is self-response (TEA 1), where materials will be delivered to each address through the mail, and self-response will be supported and promoted. After the initial self-response phase, nonresponding households will be enumerated in the NRFU operation. Update Enumerate uses the methodology of updating the address list and attempting household enumeration at the same time. This will be used for a very small portion of the addresses in the country, such as those with access problems or minimal mail service. The Island Areas are not included in MAF/TIGER. For these areas, the address list will be created and enumeration will be attempted at the same time. Remote Alaska uses the Update Enumerate methodology but in remote areas of Alaska that require a different schedule for enumeration due to changes in transportation accessibility and living situations related to the presence of ice. Military areas require special procedures due to security restrictions. Update Leave is an update of the address list at the same time that a questionnaire is left at each individual housing unit and the enumeration data is expected to be returned or submitted by a respondent. Puerto Rico is designated as entirely Update Leave (except for military locations) in order to create a current address list at the time of the census, in response to changes that may have occurred due to natural disasters.

A. Content and Forms Design

The Content and Forms Design (CFD) operation is responsible for identifying and finalizing the content and design of questionnaires and associated nonquestionnaire materials. To support the 2020 Census, the CFD operation ensures content consistency across data collection modes and operations, as question wording varies depending on mode of data collection. The CFD operation is responsible for creating, refining, and finalizing instrument specifications for all data collection modes—internet, phone, paper, and field enumeration. This is a significant departure from the 2010 Census, which relied on paper for virtually all data collection.

As required by law (Title 13, United States Code), the subjects planned for the 2020 Census were submitted to Congress on March 29, 2017, and the questions planned for the 2020 Census were submitted to Congress on March 29, 2018. The questions proposed for the 2020 Census questionnaire in the March 29, 2018 submission included age, citizenship, Hispanic origin, race, relationship, sex and tenure. Should the government prevail in pending litigation regarding the reinstatement of the citizenship question, the Census Bureau will include the citizenship question on the 2020 Census questionnaire.

B. Language Services

The Language Services operation provides questionnaires and related materials in non-English materials for respondents of Limited English Proficiency. For the 2020 Census, the internet instrument and Census Questionnaire Assistance will be available in Spanish, Chinese, Vietnamese, Korean, Russian, Arabic, Tagalog, Polish, French, Haitian Creole, Portuguese, and Japanese, in addition to English. The bilingual paper questionnaire, enumerator instrument, and field enumeration materials will be available in Spanish. In addition, language guides and language identification cards will be available in the following languages: Albanian, Amharic, Arabic, Armenian, Bengali, Bosnian, Bulgarian, Burmese, Chinese, Croatian, Czech, Dutch, Farsi, French, German, Gujarati, Greek, Haitian Creole, Hebrew, Hindi, Hmong, Hungarian, Igbo, Ilocano, Indonesian, Italian, Japanese, Khmer, Korean, Lao, Lithuanian, Malayalam, Marathi, Navajo, Nepali, Polish, Portuguese, Punjabi, Romanian, Russian, Serbian, Sinhala, Slovak, Somali, Spanish, Swahili, Tagalog, Tamil, Telugu, Thai, Tigrinya, Turkish, Twi, Ukrainian, Urdu, Vietnamese, Yiddish, and Yoruba.

C. Address Canvassing

Address Canvassing, as described above, consists of two major components: In-Office Address Canvassing and In-Field Address Canvassing. In-Office Address Canvassing is the process of using empirical geographic evidence (e.g., imagery, comparison of the Census Bureau's address list to partner-provided lists) to assess the current address list and make changes where necessary. This component detects and captures areas of change from high-quality administrative records and third-party data. Advancements in technology have enabled continual address and spatial updates to occur throughout the decade as part of the In-Office Address Canvassing effort.

Areas not resolved by In-Office Address Canvassing become the universe of geographic areas worked during In-Field Address Canvassing. Only the In-Field component of Address Canvassing involves in-person collection of information from residents at their living quarters.

For In-Field Address Canvassing, an extract of addresses from the MAF is created, and this address list is verified and updated in the field, as needed. Updates can include adding units missing from the address list and removing nonexistent or nonresidential units from the list. In addition, living quarters are classified as housing units or group quarters. Group quarters are living quarters where people who are typically unrelated have group living arrangements and frequently are receiving some type of service. College/university student housing and nursing/skilled-nursing facilities are examples of group quarters.

The MAF also has geographic data for transitory locations, which include recreational vehicle parks, campgrounds, racetracks, circuses, carnivals, marinas, hotels, and motels. People residing at transitory locations during the census are recorded as living in housing units located at transitory locations.

During In-Field Address Canvassing, listers knock on doors at every structure in the assignment in an attempt to locate living quarters and classify each living quarter as a housing unit, group quarter, or transitory location. If someone answers, the lister will provide a Confidentiality Notice and ask about the address in order to verify or update the information, as appropriate. The listers will then ask if there are any additional living quarters in the structure or on the property. If there are additional living quarters, the listers will collect or update that information, as appropriate. In addition, there will be a check on the quality of the address listing work on approximately 10 percent of the address listing workload.

The results of Address Canvassing are processed with MAF/TIGER and then used as input into the creation of the census address list for enumeration. This address list in turn, is used in conjunction with the TEA delineation to determine which materials should be printed for use in the operation(s) designated for each area of the country.

D. Forms Printing and Distribution

The Forms Printing and Distribution operation prints and distributes paper forms to support the 2020 Census mailing strategy and enumeration of the population. The Forms Printing and Distribution operation is responsible for the printing and distribution of mailed internet invitations, reminder cards or letters, and questionnaire mail packages where materials are mailed, in multiple languages as determined by the Language Services operation. The letters, reminder cards, and questionnaires are delivered according to the mailing contact strategy, which is part of the internet Self-Response operation (discussed below).

Every address record will be identified by an ID, which will be printed on questionnaires and letters and used for tracking responses. Paper questionnaires and responses from field operations will be linked to the ID in data capture. Internet and telephone respondents will be requested but not required to provide the ID. When an ID is not provided, the response will be considered a Non-ID response. The Non-ID operation is discussed below.

E. Internet Self-Response

The internet Self-Response (ISR) operation performs the following functions:

• Maximize online response to the 2020 Census through contact strategies and improved access for respondents.

• Collect response data via the internet to reduce paper and the NRFU universe.

Contact Strategies for Mailing Materials

“Contact strategies for mailing materials” refers to all attempts by the Census Bureau to make direct contact with individual households by mail. Types of contact strategies include invitation letters, postcards, and questionnaires mailed to households.

A primary objective of the 2020 Census is for a majority of self-respondents to complete their census questionnaire online. An approach called “internet First,” in which the first mailing includes an invitation to respond to the census online, has been developed for TEA 1 areas to encourage respondents to use the internet. Subsequent mailings will be reminders to respond to the census online, until all remaining nonresponding households in the internet First areas receive a paper questionnaire in the fourth mailing. In TEA 1 areas with low internet coverage or connectivity or other characteristics that may make it less likely the respondents will complete the census questionnaire online, the “internet Choice” contact strategy will be designated for use instead. This strategy includes both an invitation to complete the census online and a paper questionnaire as part of the first mailing. The Census Bureau anticipates about 20 percent of the households in the self-response TEA will receive the internet Choice treatment.

In summary, the contact strategies for mailing materials including mailing date are outlined in the table below:

Internet Self-Response Instrument

The internet application and all related support systems are designed to handle the volume of responses that are expected to be received by internet in the 2020 Census. It is imperative that the application and systems service the scale of the operation in order to ensure that users do not experience delays while completing the survey or unavailability of the application. In addition, the internet application and other associated systems were developed to adhere to the highest standards of data security in order to ensure that all respondent data are secure and confidential.

F. Census Questionnaire Assistance

The Census Questionnaire Assistance (CQA) operation has three primary functions:

• Provide questionnaire assistance by answering questions about specific items on the census questionnaire or other frequently asked questions about the census.

• Provide an option for respondents to complete a census interview over the telephone.

• Provide outbound calling in support of Coverage Improvement (discussed in the NRFU section below).

Respondents using the internet instrument will have the ability to contact CQA by telephone when web-based self-service help tools cannot answer their questions. Each of the 13 supported languages, including English, will have its own toll-free number for callers. Respondents calling the English and Spanish language lines will initially be presented with a self-service Interactive Voice Response system, offering an assortment of automated responses to Frequently Asked Questions. At any time, respondents may opt to transfer to a customer service representative, who is prepared to further assist and enumerate them. All callers who need assistance in other languages will be connected directly to an appropriately skilled customer service representative fluent in the language, based on the toll-free number called.

G. Update Leave

The Update Leave (UL) operation is designed for areas where the majority of housing units either do not have mail delivered to the physical location of the housing unit or the mail delivery information for the housing unit cannot be verified. Designated during TEA delineation, UL can occur in geographic areas that:

• Do not have city-style addresses.

• Do not receive mail through city-style addresses.

• Receive mail at post office boxes.

• Have been affected by major disasters.

The purpose of the UL operation is to update the address and feature data for the area assigned and to leave an internet Choice questionnaire package at every housing unit identified to allow the household to self-respond. Enumerators do not attempt to enumerate the household in person at this point.

Occupants can respond online, using the ID printed on the questionnaire, or they can fill out and mail back the paper questionnaire. If they have questions or wish to respond on the telephone, they can call the CQA number, which is provided in the package.

The UL operation includes mailing a reminder letter and a reminder postcard to addresses that are capable of receiving mail within the areas designated for UL. These mailed materials include the ID for the given address and the website address for the household to use in order to respond online. As in TEA 1, where all materials are mailed to housing units, any households that do not self-respond will be contacted during the NRFU operation. Finally, the UL operation performs a check on the quality of the address listing work (quality control [QC]) on approximately 10 percent of the production workload.

H. Update Enumerate

The Update Enumerate (UE) operation is designated for areas where the initial visit requires enumerating at the living quarters while updating the address list. The majority of the operation will occur in remote geographic areas that have unique challenges associated with accessibility. UE can occur in the following geographic areas:

• Remote Alaska.

• Areas that were a part of the 2010 Census Remote UE operation, such as northern parts of Maine and southeast Alaska.

• Select American Indian areas that request to be enumerated in person during the initial visit.

Note that the areas included in the 2010 Census Remote Update Enumerate operation might be delineated into TEA 1 or TEA 6 for the 2020 Census, based on changes in address type or mailability.

In the UE operation, field staff update the address and feature data and enumerate respondents in person. The address and feature data are updated on paper address registers and paper maps. The enumeration is collected on paper questionnaires. Field staff conducting UE follow a specific contact strategy for the remote locations and conduct any needed follow-up. The UE operation will promote the quality of the address work and of the enumeration data by having staff work in pairs and by supervisors reviewing all data collected for completion and any anomalies. Supervisors will rework an area to collect geographic and/or enumeration data when necessary to improve the quality of the collected data. Rework is expected on no more than 10 percent of the total workload of cases.

I. Non-ID Processing

For the 2020 Census, respondents will be encouraged, but not required, to use the Census Bureau's preassigned ID for the living quarters. Within the internet instrument, and, consequently, within CQA, it will be possible for respondents to submit their census response without the preassigned ID. Non-ID Processing is the effort to associate census responses that lack a Census ID with records included on the Census Bureau's 2020 Census address frame. This processing can occur through automated or clerical procedures. With the ISR instrument collecting the response and address data, it will be possible to perform automated processing to determine whether the address was already included on the address frame and extracted from the MAF. For those Non-ID responses not matched during automated processing, a clerical operation will make a further attempt to match the address to the 2020 Census address frame and validate nonmatching addresses. Some of the clerical work may require contacting the respondent to help determine a match or to verify the existence and location of the address; this is known as Non-ID Processing Phone Followup. Any nonmatching address whose existence and location cannot be verified by the clerical Non-ID operation will become a Field Verification assignment, handled as a component of the NRFU operation. Notably, Field Verification is only an address verification effort and does not include collection of the census questionnaire data.

J. Nonresponse Followup

The NRFU operation serves two primary purposes:

• Determines or resolves housing unit status for addresses included in the NRFU workload.

• Enumerates housing units that are determined to have a housing unit status of occupied.

The NRFU workload is comprised of addresses from a number of sources, including:

• Nonresponding addresses in TEAs 1 and 6.

• Blank mail returns or mail returns otherwise deemed to be too incomplete.

• Addresses considered to represent new or recently completed housing. These addresses are identified by the spring 2020 USPS Delivery Sequence File and other special efforts undertaken to identify new housing around the time of the census—New Construction and Housing Unit Count Review; addresses upheld in the Local Update of Census Addresses appeals process; and potentially other addresses determined to require follow-up after the initial enumeration universe is established.

• Addresses with a vacant status (reported as 0 occupants) from internet Self-Response.

• Field Verification cases.

• Coverage Improvement cases.

• Self-Response Quality Assurance cases.

The 2020 Census NRFU operation will be different from the NRFU operation conducted in the 2010 Census. The Census Bureau will implement a NRFU operational design that utilizes a combination of the following:

• Automation to facilitate data collection.

• Administrative records and third-party data usage to reduce the workload.

• Reengineering of staffing and management of field operations.

• A best-time-to-contact model to increase the likelihood of making contact attempts when an enumerator will find people at home.

After giving the population in the United States and Puerto Rico an opportunity to self-respond to the 2020 Census, the Census Bureau will use the most cost-effective strategy for contacting and counting people to ensure an accurate count.

During the NRFU operation, enumerators will visit each housing unit designated for follow-up and determine whether the unit exists and then the occupancy status of the unit on April 1, 2020. If the unit exists, they complete an interview using an automated application on a smartphone. The devices will use a secure Census Bureau-provided enumeration application solution for conducting the NRFU field data collection. Enumeration data and workload updates will be transmitted between the NRFU instruments and response processing systems on a regular basis. Various techniques will be used during NRFU to make the data collection as efficient as possible. The number of allowed attempts to contact will be controlled within the automated instrument, and best-time-to-contact modeling will be used in the creation of the daily assignments. Every case in the NRFU workload will initially have a maximum of six unique contact days. (During the Closeout phase of the operation, cases may receive additional attempts, as necessary, to resolve incomplete cases.) After a third attempt to contact a household does not yield a respondent, a case will become proxy-eligible. A proxy is a neighbor, landlord, real estate agent, or other knowledgeable person who can provide information about the unit and the people who live there. An enumerator should attempt three proxies after each noninterview for a proxy-eligible case.

In addition to the initial in-person contact attempt, these addresses will also receive a final mailing that encourages occupants to self-respond to the 2020 Census. If the initial in-person contact attempt is unsuccessful, the Census Bureau will use administrative records for the unit status or as the household response data when it has high-quality administrative records from trusted sources. Undeliverable-As-Addressed information from the USPS will serve as the primary administrative records source for the identification of vacant addresses and addresses that do not exist. Examples of sources of administrative records and third-party data used to enumerate occupied housing units include IRS Individual Tax Returns, IRS Information Returns, and the Center for Medicare and Medicaid Statistics Medicare Enrollment Database. Addresses will also be removed from the workload throughout the course of the NRFU operation as self-responses continue to be received.

Early NRFU

Early NRFU occurs in areas where there are high concentrations of college students living in off-campus housing who are unlikely to be present during the scheduled dates for regular NRFU. The enumeration procedures for early NRFU are the same as regular NRFU, but just conducted at an earlier time to accommodate the schedules of select colleges and universities. Any early NRFU addresses that are unresolved by the start of NRFU will receive additional field attempts during regular NRFU.

NRFU Reinterview

The NRFU Reinterview program will check the quality of the work done by enumerators in NRFU. A sample of approximately 5 percent of NRFU interviews will be selected for verification through NRFU Reinterview. The NRFU Reinterview program involves conducting an independent field reinterview for selected cases to verify that an enumerator conducted the interview and followed procedures. The NRFU Reinterview interviewer/enumerator always attempts to contact the respondent from the original interview, which may be a household member, neighbor, or some other proxy. If the original respondent confirms that he/she was contacted and an enumerator conducted the original interview, the NRFU Reinterview interviewer/enumerator collects roster names and ends the interview. If the respondent was not contacted or does not know if an enumerator conducted the original interview, the NRFU Reinterview interviewer/enumerator conducts a full interview with the respondent.

During the early weeks of NRFU, enumerators will conduct interviews with multiunit structure managers to determine the occupancy status of nonresponding units within the multiunit structure. This Manager Visit (MV) allows enumerators to identify several units as vacant or delete without having to attempt each unit individually. Enumerators have a maximum of two unique contact days to complete the MV cases. The MV Reinterview program will check the quality of work done by enumerators during the MV and will target MVs with high numbers of vacant and delete unit statuses. During the MV Reinterview, the enumerator will ask to speak to the manager from the original MV interview. If the respondent confirms that he/she was contacted and an enumerator conducted the original interview, the MV RI enumerator asks about a subset of the list checked during the MV. If the respondent was not contacted or does not know if an enumerator conducted the original MV interview, the MV Reinterview enumerator conducts a full interview and asks about the entire list during the MV.

The NRFU universe also includes cases from Non-ID Processing that were not able to be matched to the address frame. As discussed in the Non-ID section, these are Field Verification (FV) cases, where the enumerators attempt to locate the address in question and collect its Global Positioning System (GPS) coordinates. A sample of the FV cases is selected for verification through FV QC. Since FV cases only require an enumerator to determine the existence of an address and will not require an interview with a respondent, the FV QC program will consist of an independent check of the production enumerators where the FV QC enumerator will conduct the same procedures as the FV enumerator. FV cases, along with their QC component, have a maximum of one field contact day.

The Coverage Improvement operation resolves categories of erroneous enumerations (people counted in the wrong place or counted more than once) and omissions (people who were missed) identified through collected enumeration data. The Coverage Improvement operation will attempt to resolve these issues from both self-response and NRFU responses. All cases that are selected for Coverage Improvement with a valid phone number will be subject to an interview attempt by a CQA Customer Service Representative. The workload identified for the Coverage Improvement operation will be responses where a household enumeration shows a difference between the answer for the number of people within the household and the number of people enumerated, and answers to coverage questions in the initial enumeration that reflect potential coverage errors. Automation and the internet self-response option should reduce the prevalence of these types of respondent errors as compared to the 2010 Census, which was completed almost entirely on paper questionnaires.

Self-Response Quality Assurance cases are generated as part of the quality assurance efforts for self-response. This re-collection of the enumeration data will also be worked within NRFU.

K. Group Quarters

The 2020 Census Group Quarters (GQ) operation will enumerate people living or staying in group quarters and will provide an opportunity for people experiencing homelessness and receiving service at a service-based location, such as a soup kitchen, to be counted in the census.

The 2020 Census GQ operation consists of the following components:

• In-Office GQ Advance Contact.

• GQ Enumeration.

• Service-Based Enumeration.

• Military Enumeration.

• Maritime Vessel (Shipboard) Enumeration.

In-Office GQ Advance Contact

The In-Office GQ Advance Contact is an in-office activity conducted in the area census offices. Preferred dates, times, methods of enumeration, and expected population on Census Day will be collected. Special instructions or concerns related to privacy, confidentiality, and security will also be addressed.

GQ Enumeration

The GQ Enumeration will cover all 50 states, the District of Columbia, and Puerto Rico. An additional late GQ enumeration phase allows for the stakeholder identification and enumeration of group quarters that may have been missed during the earlier time frame. The primary method of conducting in-person enumeration of people residing in group quarters will be by using the Individual Census Questionnaire as the paper data collection instrument. In-person interviewing is planned for all group quarter types that are part of the field enumeration workload.

GQ Enumeration—eResponse Data Transfer

eResponse uses electronic data transfer from GQ administrators to the Census Bureau. Client-level data from systems maintained by GQ Administrators can be transferred to a standardized Census Bureau system that will accept electronically submitted data in a standardized template. These data will be accepted in lieu of use of the Individual Census Questionnaire if data are deemed to be of sufficiently high quality and completeness.

Service-Based Enumeration

The Service-Based Enumeration is specifically designed to approach people using service facilities because they may be missed during the traditional enumeration at housing units and group quarters. These service locations and outdoor locations include the following:

• Shelters: Shelters with sleeping facilities for people experiencing homelessness; shelters for children who are runaways, neglected, or experiencing homelessness.

• Soup kitchens.

• Regularly scheduled mobile food vans: Stops where regularly scheduled mobile food vans distribute meals.

• Targeted nonsheltered outdoor locations.

For the 2020 Census, the Service-Based Enumeration operation will be conducted over the three-day period that ends on April 1, 2020, Census Day. Service providers for shelters, soup kitchens, and regularly scheduled mobile food vans will be given the flexibility for their facility to be enumerated on any one of the three days. Targeted nonsheltered outdoor locations will be enumerated April 1, 2020. Field partnership specialists with local knowledge will help to identify nonsheltered outdoor locations during the time of the census.

Domestic Violence Shelters

Domestic violence shelters are facilities for those seeking safety from domestic violence. Domestic violence shelters are enumerated using special procedures and specially trained personnel. These special procedures include inviting members of the National Coalition Against Domestic Violence state coalitions to participate in the 2020 Census Group Quarters Update Program to create a comprehensive and current address listing for domestic violence shelters. These special procedures are designed to protect the safety and security of respondents being enumerated at these locations.

Military Enumeration and Maritime Vessel Enumeration

Military Enumeration involves enumeration of people living in GQs or barracks on stateside military installations or military vessels. Military installations are fenced, secured areas used for military purposes. An important feature of the military enumeration operation is that it includes both group quarters and housing units. A military vessel is defined as a United States Navy or United States Coast Guard vessel assigned to a home port in the United States. See part Q for methods we will use to count overseas military.

L. Paper Data Capture

The Paper Data Capture operation scans and converts data from 2020 Census paper questionnaires. Core sources for the Paper Data Capture operation include housing unit self-response questionnaires mailed back by respondents and Group Quarters Individual Census Reports. The Census Bureau's in-house Integrated Computer Assisted Data Entry system is used to capture paper responses from questionnaires. Each write-in and checkbox data field is data-captured, and Optical Character Recognition and Optical Mark Recognition are performed. If Key From Image is needed for forms that cannot be processed through Optical Character Recognition or Optical Mark Recognition, staff are presented the image of the page and are able to clarify, correct, or add to what was captured. The Census Bureau maintains the data, images of the forms, and the paper forms themselves until confirmation that the data have been correctly captured, at which point the paper forms are sent to destruction while the data and images are retained. The Census Bureau maintains the images for archiving purposes until such time as the National Archiving and Records Administration takes possession of the images for permanent archiving.

M. Response Processing

The Response Processing Operation (RPO) supports the three major components of the 2020 Census: Pre-data collection activities, data collection activities, and post-data collection activities. Specifically, the operation supports the following activities:

Pre-data collection:

• Create and distribute the initial 2020 Census enumeration universe of living quarters.

• Assign the specific enumeration strategy for each living quarter based on case status and associated paradata.

Data collection:

• Create and distribute workload files required for enumeration operations.

• Track case enumeration status.

• Check for suspicious returns.

Post-data collection:

• Run post-data collection processing actions in preparation for producing the final 2020 Census results.

N. Redistricting Data Program

The purpose of the 2020 Census Redistricting Data Program (RDP) is to provide to each state the legally required redistricting data tabulations by the mandated deadline of one year from Census Day: April 1, 2021. In compliance with Public Law (P.L.) 94-171, the Census Bureau will tabulate for each state the total population counts by race and Hispanic origin. The Census Bureau will tabulate these counts for the total population and for the population age 18 and over in a prototype redistricting data file released as part of the 2018 End-to-End Census Test. The Census Bureau intends to work with stakeholders, specifically “the officers or public bodies having initial responsibility for the legislative apportionment of each state,” to solicit feedback on the content of the prototype redistricting data file. If those stakeholders indicate a need for tabulations of citizenship data on the 2020 Census Public Law 94-171 Redistricting Data File, the Census Bureau will make a design change to include citizenship as part of that data, if collected. That new design would then be published in the Federal Register after it is completed in the summer of 2019. The Census Bureau will also tabulate housing unit counts by occupancy status (occupied or vacant) and provide total population counts for group quarters by group quarters type. For the prototype and for the 2020 Census Redistricting Data Files, the Census Bureau will provide these tabulations for a variety of standard census geographic areas including state, county, place, tract, and tabulation block. If states provide their congressional, legislative, and voting district boundaries through the Redistricting Data Program, the Census Bureau will also provide the tabulations for these areas. Tabulations by congressional, legislative, and voting districts will be available for the 50 states; equivalent tabulations will be available for the District of Columbia and the Commonwealth of Puerto Rico.

This program has a separate OMB clearance number. There is more detail about this program in Federal Register Notice “Redistricting Data Program,” July 26, 2018, (Vol. 83, No. 144, pp. 35458-35460. FR Doc No. 2018-15972).

O. Data Products and Dissemination

The Data Products and Dissemination (DPD) operation performs three primary functions:

• Prepare and deliver the 2020 Census apportionment data for the President of the United States to provide to Congress by December 31, 2020.

• Tabulate 2020 Census data products for use by the states for redistricting.

• Tabulate and disseminate 2020 Census data for use by the public.

The DPD operation produces information required by Public Law to satisfy apportionment and redistricting requirements. Title 13, U.S. Code (U.S.C.) requires that the apportionment population counts be delivered to the Office of the President within nine months of the census date. Apportionment counts are based on the Census Unedited File, the Federally Affiliated Overseas Personnel and Dependents Count File, and a geographic file of state changes. For the 2020 Census, the census date is April 1, 2020, and the President will receive the counts by December 31, 2020.

The DPD operation is also responsible for the production and dissemination of many data products, including national and state summary files, tabulated informational files, and data comparison tables. This includes electronic and printed products that cover population and housing unit tabulations, geographical maps, and products specific to the Island Areas (U.S. Virgin Islands, Guam, American Samoa, and the Commonwealth of the Northern Mariana Islands).

The Center for Enterprise Dissemination Services and Consumer Innovation initiative is responsible for developing enterprise dissemination requirements. DPD is conducting a thorough review of the past product design (cross-tabulations and iterations of characteristics), while also looking to ensure that users can find data after the 2020 Census quickly and easily. The Census Bureau will undertake a thorough analysis of the proposed 2020 Census data products in keeping with our sworn obligation to protect respondents' data as data stewards under Title 13. Federal Register Notice “Soliciting Feedback from Users on 2020 Census Data Products,” July 19, 2018 (Vol. 83, pp. 34111—34112, FR Doc No. 2018-15458) was published with a 60-day comment period. It requested feedback from users on specific tables and geographic detail for decennial census products such as Summary File 1, Summary File 2, and the Demographic Profile. The last day to provide comment on the notice was September 17, 2018. Subsequently, this notice was reopened for an additional 30-day comment period on October 9, 2018 (Vol. 83, p. 50636, FR Doc No. 2018-21837). The last day to provide comments on this notice was November 8, 2018. The final suite of 2020 Census data products will be determined in the summer of 2019.

P. Archiving

The Archiving (ARC) operation performs the following functions:

• Coordinate storage of the materials and data and provides records deemed permanent as the official data of the 2020 Census, including files containing the individual responses to the 2020 Census, to the National Archives and Records Administration (NARA).

• Provide similar files to the Census Bureau's National Processing Center in Indiana to use as source materials to conduct the Age Search Service.

• Store data to cover in-house needs.

Q. Federally Affiliated Count Overseas

The Federally Affiliated Count Overseas operation obtains counts by home state of United States military and federal civilian employees who are stationed or assigned overseas and their dependents living with them. For the 2020 Census, overseas is defined as anywhere outside the 50 states, the District of Columbia, Puerto Rico, and the Island Areas: American Samoa, Commonwealth of the Northern Mariana Islands, Guam, and the United States Virgin Islands. Counts are submitted from federal agencies and the Department of Defense (Defense Manpower Data Command) through a Census Bureau secure server and are used to allocate the federally affiliated population living overseas to their home state for the purposes of apportioning seats in the U.S. House of Representatives. If military and federal civilian employees of the U.S. government are deployed overseas while stationed or assigned within the U.S., they are counted at their U.S. residence where they live or sleep most of the time using administrative data provided by federal agencies and the Department of Defense. See Section K for more info on how we count stateside military personnel.

R. Island Areas Censuses

The purpose of the Island Areas Censuses (IAC) operation is to enumerate all residents of American Samoa, the Commonwealth of the Northern Mariana Islands (CNMI), Guam, and the U.S. Virgin Islands; process and tabulate the collected data; and disseminate data products to the public. All data collection activities for the IAC will rely on the use of paper questionnaires, paper maps, and paper address registers to record the physical addresses of housing units and group quarters. The IAC questionnaire will leverage the American Community Survey questionnaire with minor wording changes in order to take into account the Island Areas local governments' concerns, where possible.

Enumerators will list the addresses using paper address registers. Once the addresses have been listed, enumerators will visit every living quarter to conduct interviews with household members and follow up as necessary. The IAC will perform a clerical review of all completed questionnaires for completeness and data consistency, a reinterview for a sample of questionnaires, and an independent address check. The response data will be processed through the Decennial Response Processing System. Data products will include counts of the population and housing units, data profiles, subject tables, ranking tables, and supplemental tables.

S. Evaluations and Experiments

The Census Bureau is not currently planning a separate package for the Evaluations and Experiments program, as has been done in past censuses. For the 2020 Census, these evaluations and experiments will be described either as Substantive Changes to this package, to the Census Bureau's Post-Enumeration Survey Independent Listing and QC OMB package, or within the Generic Clearance for Decennial Census Field Tests and Evaluations, covered under OMB approval 0607-0971.

Affected Public: Individuals or Households.

Frequency: Once every 10 years.

Respondent's Obligation: Mandatory.

Legal Authority: Title 13, United States Code, Section 141.

This information collection request may be viewed at www.reginfo.gov. Follow the instructions to view Department of Commerce collections currently under review by OMB.

Written comments and recommendations for the proposed information collection, identified by Docket number OMB-2018-0004, may be submitted to the Federal e-Rulemaking portal: https://www.regulations.gov within 30 days of publication of this notice. You may also submit comments and recommendations to 2020_Census_Comments@omb.eop.gov or fax to (202) 395-5806. All comments received are part of the public record and will be posted to http://www.regulations.gov for public viewing. Comments will generally be posted without change. All Personally Identifiable Information (for example, name and address) voluntarily submitted by the commenter may be publicly accessible. Do not submit confidential business information or otherwise sensitive or protected information. You may submit attachments to electronic comments in Microsoft Word, Excel, WordPerfect, or Adobe PDF file formats only.

Sheleen Dumas,
Departmental Lead PRA Officer, Office of the Chief Information Officer, Commerce Department.

[FR Doc. 2019-02223 Filed 2-12-19; 8:45 am]

BILLING CODE 3510-07-P